DEPARTMENT OF THE INTERIOR

Bureau of Land Management

[(LLCAD01000.L13400000.DO0000.20X) MO#4500140922]

Notice of Availability of the Final Environmental Impact Statement for the Haiwee Geothermal Leasing Area, California, and the Proposed Amendment to the California Desert Conservation Area Plan

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Final Amendment to the California Desert Conservation Area (CDCA) Plan and a Final Environmental Impact Statement (EIS) for the Haiwee Geothermal Leasing Area (HGLA), Inyo County, California, and by this notice is announcing its availability. The proposed action is to amend the CDCA Plan to allow for geothermal leasing within approximately 22,805 acres. The proposed action also responds to three geothermal lease applications for 4,460 acres of public lands within the HGLA.

DATES: BLM planning regulations state that any person who meets the conditions as described in the regulations may protest the BLM's Proposed Land Use Plan Amendment and Final EIS. A person who meets the conditions and files a protest must file the protest within 30 days of the date that the Environmental Protection Agency publishes its Notice of Availability in the Federal Register.

ADDRESSES: The Final EIS and Proposed Land Use Plan Amendment is available on the internet at https://go.usa.gov/xEnvy. Hard copies of the Final EIS and Proposed Land Use Plan Amendment are available for public inspection at the BLM-Ridgecrest Field Office at 300 South Richmond Road, Ridgecrest, CA 93555, and at the California Desert District Office, 22835 Calle San Juan De Los Lagos, Moreno Valley, CA 92553. Hard copies of the Final EIS and Proposed Land Use Plan Amendment have been sent to affected Federal, State, local, and tribal government agencies and to other stakeholders. All protests must be in writing and filed with the BLM Director, either as a hard copy or electronically via the BLM's ePlanning project website listed previously. To submit a protest electronically, go to the ePlanning project website and follow the protest instructions highlighted at the top of the home page. If submitting a protest in hard copy, it must be mailed to one of the following addresses:

Regular Mail: BLM Director (210), Attention: Protest Coordinator, P.O. Box 71383, Washington, DC 20024-1383.

Overnight Delivery: BLM Director (210), Attention: Protest Coordinator, 20 M Street SE, Room 2134LM, Washington, DC 20003.

FOR FURTHER INFORMATION CONTACT: Greg Miller, Assistant District Manager—Resources, telephone: 951-697-5216; address: 22835 Calle San Juan De Los Lagos, Moreno Valley, CA 92553; email: gmiller@blm.gov. Persons who use a telecommunications device for the deaf (TDD) may call the Federal Relay Service (FRS) at 1-800-877-8339 to contact Mr. Miller during normal business hours. FRS is available 24 hours a day, 7 days a week, to leave a message or question. You will receive a reply during normal business hours.

SUPPLEMENTARY INFORMATION: The HGLA Draft EIS and Draft Proposed Amendment to the CDCA published in May 2012 and public meetings were held in June 2012. An Administrative Draft Final EIS was prepared in December 2013 that included public comments and responses to comments, updates to the alternatives descriptions, and internal review comments. As a result of the review of the comments, the BLM conducted a more detailed study to address projected water use by geothermal facilities should they be allowed in the HGLA. Argonne National Laboratories conducted the study and provided BLM a report in January 2016. Additionally, new land use designations approved with the Desert Renewable Energy Conservation Plan amendment to the CDCA Plan in September of 2016 required analysis of a new alternative that considered the new land use designations. Based on these two developments, the BLM has prepared a CDCA Plan Amendment and Draft Supplemental EIS for the project. The Draft Supplemental EIS published on April 19, 2019, for a 90-day public comment period. The Draft Supplemental EIS analyzed the Proposed Action and two action alternatives, in addition to the No Action Alternative.

The BLM received three geothermal lease applications for 4,460 acres of public lands within the HGLA in 2002. In addition, the BLM identified approximately 18,345 acres of public lands, also within the Haiwee Proposed Project Area and adjacent to the three geothermal lease applications, which will be considered for competitive geothermal leasing under 43 CFR 3203.10(e). The proposed action is to amend the CDCA Plan to allow project area lands to be leased under the authority of the Geothermal Steam Act of 1970, as amended (30 U.S.C. 1001 et seq.). The leasing of public lands for geothermal resources will require an amendment to the CDCA Plan, which is authorized by FLPMA Section 202 (43 U.S.C. 1712) and 43 CFR 1610.5-5. Total acreage being considered for geothermal leasing is approximately 22,805 acres.

The Draft Supplemental EIS/EIR and Draft Land Use Plan Amendment was available for a 90-day public comment period. The BLM received seven comment letters during the comment period. The BLM considered and incorporated, as appropriate, public comments on the Draft EIS, Draft Supplemental EIS, and Draft Land Use Plan Amendment and internal agency review into the proposed plan amendment. Public comments resulted in the addition of clarifying text but did not significantly change proposed land use plan decisions. A response to substantive comments is included as an appendix to the Final EIS and Proposed Land Use Plan Amendment. The BLM has selected Alternative A, Allow Geothermal Leasing in the Entire HGLA, as the Agency Proposed Alternative in the Final EIS and Proposed Land Use Plan Amendment. Instructions for filing a protest with the Director of the BLM regarding the Final EIS and Proposed Land Use Plan Amendment may be found online at https://www.blm.gov/programs/planning-and-nepa/public-participation/filing-a-plan-protest and at 43 CFR 1610.5-2. All protests must be made in writing and mailed to the appropriate address, as set forth in the ADDRESSES section listed earlier or submitted electronically through the BLM ePlanning project website as described earlier. Protests submitted electronically by any means other than through the ePlanning project website protest section will be invalid unless a protest is also submitted in hard copy. Protests submitted by fax will also be invalid unless also submitted either through the ePlanning project website protest section or in hard copy.

Before including your phone number, email address, or other personal identifying information in your protest, you should be aware that your entire protest—including your personal identifying information—may be made publicly available at any time. While you can ask us to withhold your personal identifying information from public review, we cannot guarantee that we will be able to do so.

(Authority: 40 CFR 1501.7 and 43 CFR 1610.2)

Joe Stout,
Acting State Director.

[FR Doc. 2020-01178 Filed 1-23-20; 8:45 am]

BILLING CODE 4310-40-P